DEPARTMENT OF HOMELAND SECURITY

Federal Emergency Management Agency

[Docket ID FEMA-2016-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: April 11, 2016.
Roy E. Wright,
Deputy Associate Administrator for Insurance and Mitigation, Department of Homeland Security, Federal Emergency Management Agency.

State and county | Location and case No. | Chief executive officer of community | Community map repository | Effective date of modification | Community No.
Arkansas: Benton (FEMA Docket No.: B-1555) | City of Rogers 15-06-2115P) | The Honorable Greg Hines, Mayor, City of Rogers, 301 West Chestnut Street, Rogers, AR 72756 | Planning Department, 301 West Chestnut Street, Rogers, AR 72756 | Mar. 9, 2016 | 050013
Colorado:
Adams FEMA Docket No.: B-1555) | City of Commerce City 15-08-0897P) | The Honorable Sean Ford, Mayor, City of Commerce City, 7887 East 60th Avenue, Commerce City, CO 80022 | City Hall, 7887 East 60th Avenue, Commerce City, CO 80022 | Mar. 16, 2016 | 080006
Douglas FEMA Docket No.: B-1555) | Town of Castle Rock 16-08-0036P) | The Honorable Paul Donahue, Mayor, Town of Castle Rock, 100 North Wilcox Street, Castle Rock, CO 80104 | Utilities Department, 175 Kellogg Court, Castle Rock, CO 80109 | Mar. 18, 2016 | 080050
Douglas FEMA Docket No.: B-1555) | Unincorporated areas of Douglas County 16-08-0036P) | The Honorable Jill Repella, Chair, Douglas County Board of Commissioners, 100 3rd Street, Castle Rock, CO 80104 | Douglas County Public Works Department, 100 3rd Street, Castle Rock, CO 80104 | Mar. 18, 2016 | 080049
El Paso (FEMA Docket No.: B-1555) | City of Colorado Springs 15-08-0401P) | The Honorable John Suthers, Mayor, City of Colorado Springs, 30 South Nevada Avenue, Suite 601, Colorado Springs, CO 80901 | City Hall, 30 South Nevada Avenue, Colorado Springs, CO 80901 | Mar. 7, 2016 | 080060
Jefferson FEMA Docket No.: B-1555) | City of Lakewood 15-08-1099P) | The Honorable Bob Murphy, Mayor, City of Lakewood, Civic Center South, 480 South Allison Parkway, Lakewood, CO 80226 | Public Works Department, Civic Center North, 480 South Allison Parkway, Lakewood, CO 80226 | Mar. 18, 2016 | 085075
Florida:
Alachua FEMA Docket No.: B-1555) | City of Gainesville 15-04-1786P) | The Honorable Ed Braddy, Mayor, City of Gainesville, P.O. Box 490, Station 19, Gainesville, FL 32627 | Public Works Department, 405 Northwest 39th Avenue, Gainesville, FL 32601 | Mar. 7, 2016 | 125107
Broward FEMA Docket No.: B-1555) | City of Pompano Beach 15-04-7602P) | The Honorable Lamar Fisher, Mayor, City of Pompano Beach, 100 West Atlantic Boulevard, Pompano Beach, FL 33060 | Building Department, 100 West Atlantic Boulevard, Pompano Beach, FL 33060 | Mar. 9, 2016 | 120055
Lee FEMA Docket No.: B-1600) | Unincorporated areas of Lee County 15-04-5461P) | The Honorable Brian Hamman, Chairman, Lee County Board of Commissioners, District 4, P.O. Box 398, Fort Myers, FL 33902 | Lee County Planning and Zoning Department, 1500 Monroe Street, Fort Myers, FL 33901 | Dec. 30, 2015 | 125124
Manatee FEMA Docket No.: B-1555) | Town of Longboat Key 15-04-6557P) | The Honorable Jack Duncan, Mayor, Town of Longboat Key, 501 Bay Isles Road, Longboat Key, FL 34228 | Town Hall, 501 Bay Isles Road, Longboat Key, FL 34228 | Mar. 2, 2016 | 125126
Monroe FEMA Docket No.: B-1555) | City of Marathon 15-04-9118P) | The Honorable Chris Bull, Mayor, City of Marathon, 9805 Overseas Highway, Marathon, FL 33050 | Planning Department, 9805 Overseas Highway, Marathon, FL 33050 | Mar. 3, 2016 | 120681
Monroe FEMA Docket No.: B-1555) | Unincorporated areas of Monroe County 15-04-9119P) | The Honorable Heather Carruthers, Mayor, Monroe County Board of Commissioners, 530 Whitehead Street, Suite 102, Key West, FL 33040 | Monroe County Building Department, 2798 Overseas Highway, Suite 300, Marathon, FL 33050 | Mar. 3, 2016 | 125129
Monroe FEMA Docket No.: B-1600) | Unincorporated areas of Monroe County 15-04-9458P) | The Honorable Heather Carruthers, Mayor, Monroe County Board of Commissioners, 530 Whitehead Street, Suite 102, Key West, FL 33040 | Monroe County Building Department, 2798 Overseas Highway, Suite 300, Marathon, FL 33050 | Mar. 16, 2016 | 125129
Orange FEMA Docket No.: B-1555) | City of Orlando 15-04-7419P) | The Honorable Buddy W. Dyer, Mayor, City of Orlando, P.O. Box 4990, Orlando, FL 32802 | Orange County Stormwater Management Division, 4200 South John Young Parkway, Orlando, FL 32839 | Mar. 7, 2016 | 120186
Orange FEMA Docket No.: B-1555) | Unincorporated areas of Orange County 15-04-7419P) | The Honorable Teresa Jacobs, Mayor, Orange County, 201 South Rosalind Avenue, 5th Floor, Orlando, FL 32801 | Orange County Stormwater Management Division, 4200 South John Young Parkway, Orlando, FL 32839 | Mar. 7, 2016 | 120179
St. Johns FEMA Docket No.: B-1555) | Unincorporated areas of St. Johns County 15-04-7215P) | The Honorable Rachael L. Bennett, Chair, St. Johns County Board of Commissioners, 500 San Sebastian View, St. Augustine, FL 32084 | St. Johns County Transportation Development Division, 4040 Lewis Speedway, St. Augustine, FL 32084 | Mar. 8, 2016 | 125147
Georgia: Barrow FEMA Docket No.: B-1555) | Unincorporated areas of Barrow County 15-04-9030P) | The Honorable Pat Graham, Chairman, Barrow County Board of Commissioners, 30 North Broad Street, Winder, GA 30680 | Barrow County Geographic Information System Division, 233 East Broad Street, Winder, GA 30680 | Mar. 14, 2016 | 130497
Kentucky: Fayette FEMA Docket No.: B-1555) | Lexington-Fayette Urban County Government 15-04-0907P) | The Honorable Jim Gray, Mayor, Lexington-Fayette Urban County Government, 200 East Main Street, Lexington, KY 40507 | Engineering Division, 101 East Vine Street, 4th Floor, Lexington, KY 40507 | Mar. 3, 2016 | 210067
Maryland:
Carroll FEMA Docket No.: B-1555) | Town of Mount Airy 15-03-2575P) | The Honorable Patrick T. Rockinberg, Mayor, Town of Mount Airy, P.O. Box 50, Mount Airy, MD 21771 | Town Hall, 110 South Main Street, Mount Airy, MD 21771 | Mar. 11, 2016 | 240200
Carroll FEMA Docket No.: B-1555) | Town of Sykesville 15-03-2575P) | The Honorable Ian Shaw, Mayor, Town of Sykesville, 7547 Main Street, Sykesville, MD 21784 | Town Hall, 7547 Main Street, Sykesville, MD 21784 | Mar. 11, 2016 | 240016
Carroll FEMA Docket No.: B-1555) | Unincorporated areas of Carroll County 15-03-2575P) | The Honorable J. Douglas Howard, President, Carroll County Board of Commissioners, 225 North Center Street, Westminster, MD 21157 | Carroll County Office Building, 225 North Center Street, Westminster, MD 21157 | Mar. 11, 2016 | 240015
North Carolina:
Forsyth FEMA Docket No.: B-1555) | Village of Clemmons 15-04-7692P) | The Honorable Nickolas Nelson Mayor, Village of Clemmons, 3715 Clemmons Road, Clemmons, NC 27012 | Village Hall, 3715 Clemmons Road, Clemmons, NC 27012 | Mar. 18, 2016 | 370531
Forsyth FEMA Docket No.: B-1555) | City of Winston-Salem 15-04-7692P) | The Honorable Allen Joines, Mayor, City of Winston-Salem, P.O. Box 2511, Winston-Salem, NC 27102 | Inspections Department, 100 East 1st Street, Suite 328, Winston-Salem, NC 27101 | Mar. 18, 2016 | 375360
Forsyth FEMA Docket No.: B-1555) | Unincorporated areas of Forsyth County 15-04-7692P) | The Honorable David R. Plyler, Chairman, Forsyth County Board of Commissioners, 201 North Chestnut Street, Winston-Salem, NC 27101 | Forsyth County Planning Board Office, 100 East 1st Street, Winston-Salem, NC 27101 | Mar. 18, 2016 | 375349
Macon FEMA Docket No.: B-1600) | Town of Highlands 15-04-7513P) | The Honorable Patrick Taylor, Mayor, Town of Highlands, P.O. Box 460, Highlands, NC 28741 | Town Hall, 210 North 4th Street, Highlands, NC 28741 | Mar. 11, 2016 | 370574
Union FEMA Docket No.: B-1600) | Town of Waxhaw 15-04-4099P) | The Honorable Stephen E. Maher, Mayor, Town of Waxhaw, P.O. Box 6, Waxhaw, NC 28173 | Town Hall, 1150 North Broome Street, Waxhaw, NC 28173 | Mar. 10, 2016 | 370473
Union FEMA Docket No.: B-1600) | Unincorporated areas of Union County 15-04-4099P) | The Honorable Stony Rushing, Chairman, Union County Board of Commissioners, 500 North Main Street, Room 921, Monroe, NC 28112 | Union County Office of Growth Management,, Planning Division, 500 North Main Street, Monroe, NC 28112 | Mar. 10, 2016 | 370234
Wake FEMA Docket No.: B-1549) | Town of Fuquay-Varina 15-04-2204P) | The Honorable John Byrne, Mayor, Town of Fuquay-Varina, 401 Old Honeycutt Road, Fuquay-Varina, NC 27256 | Engineering Department, 401 Old Honeycutt Road, Fuquay-Varina, NC 27256 | Dec. 18, 2015 | 370239
Wake FEMA Docket No.: B-1549) | Unincorporated areas of Wake County 15-04-2204P) | The Honorable James West, Chairman, Wake County Board of Commissioners, P.O. Box 550, Raleigh, NC 27602 | Wake County Public Works Department, 222 Hargett Street, Raleigh, NC 27601 | Dec. 18, 2015 | 370368
North Dakota:
Dunn FEMA Docket No.: B-1549) | City of Killdeer 15-08-0619P) | The Honorable Chuck Muscha, President, City of Killdeer Council, P.O. Box 270, Killdeer, ND 58640 | Planning and Zoning Department, 165 Railroad Street, Killdeer, ND 58640 | Mar. 2, 2016 | 380030
Dunn FEMA Docket No.: B-1549) | Unincorporated areas of Dunn County 15-08-0619P) | The Honorable Reinhard Hauck, Chairman, Dunn County Board of Commissioners, 205 Owens Street, Manning, ND 58642 | Dunn County Planning and Zoning Department, 205 Owens Street, Manning, ND 58642 | Mar. 2, 2016 | 380026
Pennsylvania: Lycoming FEMA Docket No.: B-1555) | Borough of South Williamsport 15-03-2159P) | The Honorable David J. Lechniak, Mayor, Borough of South Williamsport, 329 West Southern Avenue, South Williamsport, PA 17702 | Borough Hall, 329 West Southern Avenue, South Williamsport, PA 17702 | Mar. 11, 2016 | 420658
South Carolina:
Charleston FEMA Docket No.: B-1555) | City of Folly Beach 15-04-5698P) | The Honorable Tim Goodwin, Mayor, City of Folly Beach, 21 Center Street, 2nd Floor, Folly Beach, SC 29439 | Building Services and Facilities Management Department, 21 Center Street, Folly Beach, SC 29439 | Mar. 3, 2016 | 455415
Charleston FEMA Docket No.: B-1555) | Town of Mount Pleasant 15-04-9379P) | The Honorable Linda Page, Mayor, Town of Mount Pleasant, 100 Ann Edwards Lane, Mount Pleasant, SC 29464 | Planning and Development Department, 100 Ann Edwards Lane, Mount Pleasant, SC 29464 | Mar. 18, 2016 | 455417
Charleston FEMA Docket No.: B-1555) | Unincorporated areas of Charleston County 15-04-5698P) | The Honorable J. Elliot Summey, Chairman, Charleston County Board of Commissioners, District 3, 4045 Bridgeview Drive, Suite B254, North Charleston, SC 29405 | Charleston County Building Inspection Services Department, 4045 Bridge View Drive, Suite A-113, North Charleston, SC 29405 | Mar. 3, 2016 | 455413
South Dakota: Lawrence FEMA Docket No.: B-1555) | City of Spearfish 15-08-1218P) | The Honorable Dana Boke, Mayor, City of Spearfish, 625 5th Street, Spearfish, SD 57783 | City Hall, 625 5th Street, Spearfish, SD 57783 | Mar. 2, 2016 | 460046
Tennessee: Maury FEMA Docket No.: B-1555) | City of Spring Hill 15-04-6306P) | The Honorable Rick Graham, Mayor, City of Spring Hill, 199 Town Center Parkway, Spring Hill, TN 37174 | Building Codes and Inspection Department, 199 Town Center Parkway, Spring Hill, TN 37174 | Mar. 7, 2016 | 470278
Texas:
Bexar FEMA Docket No.: B-1555) | City of San Antonio 15-06-1357P) | The Honorable Ivy R. Taylor, Mayor, City of San Antonio, P.O. Box 839966, San Antonio, TX 78283 | Transportation and Capital Improvements Department, 1901 South Alamo Street, 2nd Floor, San Antonio, TX 78204 | Mar. 9, 2016 | 480045
Bexar FEMA Docket No.: B-1555) | Unincorporated areas of Bexar County 15-06-1355P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | Mar. 9, 2016 | 480035
Bexar FEMA Docket No.: B-1555) | Unincorporated areas of Bexar County 15-06-1357P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | Mar. 9, 2016 | 480035
Brazoria and Harris FEMA Docket No.: B-1555) | City of Pearland 15-06-2038P) | The Honorable Tom Reid, Mayor, City of Pearland, 3519 Liberty Drive, Pearland, TX 77581 | Engineering Division, 3519 Liberty Drive, Pearland, TX 77581 | Mar. 18, 2016 | 480077
El Paso FEMA Docket No.: B-1555) | Unincorporated areas of El Paso County 15-06-0888P) | The Honorable Veronica Escobar, El Paso County Judge, 500 East San Antonio Street, Suite 301, El Paso, TX 79901 | El Paso County Administrative Offices, 800 East Overland, Suite 407, El Paso, TX 79901 | Mar. 7, 2016 | 480212
Virginia:
Fairfax FEMA Docket No.: B-1555) | Unincorporated areas of Fairfax County 15-03-1477P) | The Honorable Edward L. Long, Jr., Fairfax County Executive, 12000 Government Center Parkway, Fairfax, VA 22035 | Fairfax County Planning and Zoning Department, 12000 Government Center Parkway, Fairfax, VA 22035 | Mar. 2, 2016 | 515525
Loudoun FEMA Docket No.: B-1555) | Unincorporated areas of Loudoun County 15-03-2037P) | The Honorable Scott K. York, Chairman at Large, Loudoun County Board of Supervisors, P.O. Box 7000, Mailstop #01, Leesburg, VA 20177 | Loudoun County Planning and Zoning Department, P.O. Box 7000, Mailstop #62, Leesburg, VA 20177 | Mar. 17, 2016 | 510090

[FR Doc. 2016-09472 Filed 4-25-16; 8:45 am]

BILLING CODE 9110-12-P